ENVIRONMENTAL PROTECTION AGENCY

[FRL-9837-3; CERCLA-04-2013-3760]

Circle Environmental #1 Superfund Site; Dawson, Terrell County, Georgia; Notice of Settlement

AGENCY: Environmental Protection Agency (EPA).

ACTION: Notice of settlement.

SUMMARY: Under 122(h) of the Comprehensive Environmental Response, Compensation and Liability Act (CERCLA), the United States Environmental Protection Agency has entered into a settlement with Walter G. Mercer, Jr. concerning the Circle Environmental #1 Superfund Site located in Dawson, Terrell County, Georgia. The settlement addresses cost incurred by the agency in conducting a fund lead Removal.

DATES: The Agency will consider public comments on the settlement until August 22, 2013. The Agency will consider all comments received and may modify or withdraw its consent to the settlement if comments received disclose facts or considerations which indicate that the settlement is inappropriate, improper, or inadequate.

ADDRESSES: Copies of the settlement are available from the Agency by contacting Ms. Paula V. Painter, Environmental Protection Specialist using the contact information provided in this Notice. Comments may also be submitted by referencing the Site's name through one of the following methods:

• Internet: www.epa.gov/region4/superfund/programs/enforcement/enforcement.html

• U.S. Mail: U.S. Environmental Protection Agency, Attn: Paula V. Painter, 61 Forsyth Street SW., Atlanta, Georgia 30303.

• Email: Painter.Paula@epa.gov

FOR FURTHER INFORMATION CONTACT: Paula V. Painter at (404) 562-8887.

Dated: May 21, 2013.
Anita L. Davis,
Chief, Superfund Enforcement & Information Management Branch, Superfund Division.

[FR Doc. 2013-17701 Filed 7-22-13; 8:45 am]

BILLING CODE 6560-50-P